Title 3—

The President

Proclamation 9357 of October 29, 2015

Critical Infrastructure Security and Resilience Month, 2015

By the President of the United States of America

A Proclamation

Our Nation's critical infrastructure is central to our security and essential to our economy. Technology, energy, and information systems play a pivotal role in our lives today, and people continue to rely on the physical structures that surround us. From roadways and tunnels, to power grids and energy systems, to cybersecurity networks and other digital landscapes, it is crucial that we stay prepared to confront any threats to America's infrastructure. During Critical Infrastructure Security and Resilience Month, we rededicate ourselves to safeguarding our infrastructure by staying attentive, alert, and ready to respond to any threats toward our homeland and our assets.

Ensuring our country has a secure and stable infrastructure is essential to our national security efforts. Our systems and networks extend beyond the scope of government. Many are owned by private industry, and my Administration is committed to partnering with private entities, as well as State and local governments, to secure our critical infrastructure. Earlier this year, we convened some of America's top infrastructure planning experts at the White House to highlight and advance important work to improve our Nation's resilience. We also continue to collaborate with stakeholders to mitigate risks and confront threats as part of the National Infrastructure Protection Plan. Additionally, to support the Build America Investment Initiative—a Federal effort to assist communities in constructing better and more efficient infrastructure projects—we released a Federal Resource Guide for Infrastructure Planning and Design. This guide informs communities about relevant Federal resources and noteworthy case studies, and it outlines updated principles to guide infrastructure projects.

By some estimates, we are currently underinvesting in our infrastructure by hundreds of billions of dollars each year. I have called on the Congress to pass a bipartisan infrastructure plan to create jobs and make America stronger. Not only is it a threat to our national security, but failing to maintain and strengthen our infrastructure also jeopardizes our economic growth and closes doors of opportunity for all our citizens. Our people and our businesses require an advanced infrastructure—modern ports, stronger bridges, faster trains, a modern grid, and high-speed Internet—and I am committed to efforts to build one.

No challenge demands modern infrastructure more than combatting climate change—the gravest threat to future generations, particularly to communities and populations with strained resources. Drawing on current efforts, my Administration is reinforcing our infrastructure projects and making them more clean, sustainable, efficient, and resilient. Together with States, local governments, and tribal communities, we are planning new roads, transit lines, and other methods of transportation and power generation that bolster our country's resilience in the face of climate change.

We have more power at our fingertips than ever before to communicate, collaborate, and make transactions each day across the world we share. This month, let us remind ourselves of the value of our infrastructure, while recognizing the challenges of protecting it. Together, we can safeguard the advances we have made as a people by securing our critical infrastructure and remaining vigilant in the face of any and all threats, both here at home and around the globe.

NOW, THEREFORE, I, BARACK OBAMA, President of the United States of America, by virtue of the authority vested in me by the Constitution and the laws of the United States, do hereby proclaim November 2015 as Critical Infrastructure Security and Resilience Month. I call upon the people of the United States to recognize the importance of protecting our Nation's infrastructure and to observe this month with appropriate events and training to enhance our national security and resilience.

IN WITNESS WHEREOF, I have hereunto set my hand this twenty-ninth day of October, in the year of our Lord two thousand fifteen, and of the Independence of the United States of America the two hundred and fortieth.

[FR Doc. 2015-28216

Filed 11-2-15; 12:30 pm]

Billing code 3295-F6-P